ENVIRONMENTAL PROTECTION AGENCY

40 CFR Part 271

[EPA-R10-RCRA-2017-0285; FRL-9974-35-Region 10]

Washington: Authorization of State Hazardous Waste Management Program Revisions

AGENCY: Environmental Protection Agency (EPA).

ACTION: Final authorization.

SUMMARY: Washington applied to the Environmental Protection Agency (EPA) for final authorization of certain changes to its hazardous waste program under the Resource Conservation and Recovery Act, as amended, (RCRA). The EPA reviewed Washington's application, and has determined that these changes satisfy all requirements needed to qualify for final authorization. The EPA sought public comment under Docket number EPA-R10-RCRA-2017-0285 from July 13, 2017 to August 14, 2017 and from September 25, 2017 to October 25, 2017, prior to taking this final action to authorize these changes. The EPA received one comment which was responded to but was not applicable to this authorization action.

DATES: This final authorization is effective April 9, 2018.

FOR FURTHER INFORMATION CONTACT: Barbara McCullough, U.S. Environmental Protection Agency, Region 10, Office of Air and Waste (OAW-150), 1200 Sixth Avenue, Suite 900, Seattle, Washington 98101, phone number: (206) 553-2416, email: mccullough.barbara@epa.gov.

SUPPLEMENTARY INFORMATION:

A. Why are revisions to State programs necessary?

States that have received final authorization from the EPA pursuant to Section 3006(b) of RCRA, 42 U.S.C. 6926(b), must maintain a hazardous waste program that is equivalent to, consistent with, and no less stringent than the Federal program. As the Federal program changes, states must change their programs and ask the EPA to authorize the changes. Changes to state programs may be necessary when federal or state statutory or regulatory authority is modified or when certain other changes occur. Most commonly, states must change their programs because of changes to the EPA's regulations in title 40 of the Code of Federal Regulations (CFR) parts 124, 260 through 266, 268, 270, 273, and 279.

Washington State's hazardous waste management program was initially approved on January 30, 1986 and became effective on January 31, 1986. As explained in Section E below, it has been revised and reauthorized numerous times since then. On January 26, 2017, the EPA received the State's most recent authorization revision application. This authorization revision application requested federal authorization for Washington's Rules and Standards for Hazardous Waste, effective as of December 31, 2014, and sought to revise its federally-authorized hazardous waste management program to include Federal hazardous waste regulations promulgated through July 1, 2013.

B. What decisions has the EPA made in this authorization?

The EPA has reviewed Washington's application to revise its authorized program and has determined that it meets all the statutory and regulatory requirements established by RCRA. Therefore, the EPA is granting Washington final authorization to operate its hazardous waste program with the changes described in the authorization revision application. Washington will continue to have responsibility for permitting Treatment, Storage, and Disposal Facilities (TSDFs) within its borders (except in Indian country (18 U.S.C. 1151)) with the exception of the non-trust lands within the exterior boundaries of the Puyallup Indian Reservation (also referred to as the “1873 Survey Area” or “Survey Area”) located in Tacoma, Washington (see Section J below for full description) and for carrying out the aspects of the RCRA program described in its revised program application, subject to the limitations of the Hazardous and Solid Waste Amendments of 1984 (HSWA). New Federal requirements and prohibitions imposed by Federal regulations that the EPA promulgates under the authority of HSWA, and which are not less stringent than existing requirements, take effect in authorized states before the states are authorized for the requirements. Thus, the EPA will implement those requirements and prohibitions in Washington, including issuing permits, until the State is granted authorization to do so.

C. What is the effect of this authorization decision?

A person in Washington subject to RCRA must comply with the authorized State requirements in lieu of the corresponding Federal requirements. Additionally, such persons will have to comply with any applicable Federal requirements, such as HSWA regulations issued by the EPA for which the State has not received authorization and RCRA requirements that are not supplanted by authorized State-issued requirements. Washington continues to have enforcement responsibilities under its State hazardous waste management program for violations of this program, but the EPA retains its authority under RCRA Sections 3007, 3008, 3013, and 7003, which includes, among others, the authority to:

• Conduct inspections;

• Require monitoring, tests, analyses, or reports;

• Suspend, terminate, modify, or revoke permits;

• Abate conditions that may present an imminent and substantial endangerment to human health and the environment; and

• Enforce RCRA requirements and take enforcement actions regardless of whether the State has taken its own actions.

The action to approve these revisions will not impose additional requirements on the regulated community because the regulations for which Washington has requested federal authorization are already effective under State law and are not changed by the act of authorization.

D. What were the comments received on this authorization action?

The EPA received one comment during the public comment periods of this action. That commenter requested the regulations not be authorized as they add State administrative burden to a CERCLA site. However, the authorization of these regulations do not impact the State's authority to implement its rules. This authorization action allows the EPA to implement the State of Washington's rules which were adopted on December 31, 2014. This comment should have been addressed to the State prior to the adoption of their rule package. No such comment was received. The concern raised in this comment was referred to the State to be addressed. For a copy of the specific comment received, please see Docket number EPA-R10-RCRA-2017-0285 under “Comment1” at www.regulations.gov.

E. What has Washington previously been authorized for?

Washington initially received final authorization on January 30, 1986, effective January 31, 1986 (51 FR 3782), to implement the State's hazardous waste management program. The EPA granted authorization for changes to Washington's program on September 22, 1987, effective on November 23, 1987 (52 FR 35556); August 17, 1990, effective October 16, 1990 (55 FR 33695); November 4, 1994, effective November 4, 1994 (59 FR 55322); February 29, 1996, effective April 29, 1996 (61 FR 7736); September 22, 1998, effective October 22, 1998 (63 FR 50531); October 12, 1999, effective January 11, 2000 (64 FR 55142); April 11, 2002, effective April 11, 2002 (67 FR 17636); April 14, 2006, effective June 13, 2006 (71 FR 19442); October 30, 2006 effective December 29, 2006 (71 FR 63253) and June 18, 2010 effective July 28, 2010 (75 FR 44144).

F. What changes is the EPA authorizing with this action?

The EPA is authorizing revisions to Washington's authorized program described in Washington's official program revision application, submitted to the EPA on January 26, 2017 and deemed complete by the EPA on February 23, 2017. The EPA has determined that Washington's hazardous waste management program revisions as described in the January 23, 2017 State's authorization revision application satisfy the requirements necessary to qualify for final authorization. Regulatory revisions that are less stringent than the Federal program requirements and those regulatory revisions that are broader in scope than the Federal program requirements are not authorized. Washington's authorized hazardous waste management program, as amended by these provisions, remains equivalent to, consistent with, and is no less stringent than the Federal RCRA program. Therefore, the EPA is authorizing the State for the following program changes as identified in Table 1 and Table 2 below.

The provisions listed in Table 1 and Table 2 are from the Washington Administrative Code (WAC) and are analogous to the RCRA regulations as indicated in the Tables. The RCRA regulations that the State incorporated by reference are those as published in 40 CFR parts 260 through 265, 268, 270, and 279, as of July 1, 2013, unless otherwise noted. Table 1 identifies new State rules that the EPA is authorizing as equivalent or more stringent than the Federal program. Table 2 identifies State-initiated changes to previously authorized State provisions. (Note: In Table 2 some State provisions have no direct Federal analog but are related to particular paragraphs, sections, or parts of the Federal hazardous waste regulations.) The referenced analogous State authorities were State adopted and effective as of December 31, 2014.

Table 1—Equivalent and More Stringent Analogues to the Federal Program
Checklist ¹ | Federal requirements | Federal Register | Analogous State authority (WAC 173-303-* * *)
12 ² | Satellite Accumulation | 49 FR 49568, 12/20/1984 | 200(2).
174 | Post-Closure Permit Requirement and Closure Process | 63 FR 56710, 10/22/1998 | 645(1)(e); 800(12); 610(3)(a)(ix); 620(1)(d)(i); 610(3)(b)(ii)(D); 610(8)(d)(ii)(D); 045(1); 400(3)(a); IBR 045(1); 800(2); 806(4)(a); 806(4)(o).
206 | Nonwastewaters from Dyes and Pigments | 70 FR 9138, 2/24/2005 | 071(3)(kk), 071(3)(kk)(i), 071(3)(kk)(ii), 071(3)(kk)(iii), 071(3)(kk)(iv), 071(3)(kk)(v); 9904, 9904(1), 9904(2), 9904(3), 9904(4), 9904(4)(a), 9904(4)(b), 9904(4)(b)(i), 9904(4)(b)(ii), 9904(4)(b)(iii), 9904(4)(b)(iv), 9904(4)(b)(iv)(A), 9904(4)(b)(iv)(B), 9904(4)(b)(iv)(C), 9904(4)(c), 9904(4)(c)(i), 9904(4)(c)(ii), 9904(4)(c)(iii), 9904(4)(c)(iii)(A), 9904(4)(c)(iii)(B), 9904(4)(c)(iii)(C), 9904(4)(c)(iii)(D), 9904(4)(c)(iv), 9904(4)(c)(iv)(A), 9904(4)(c)(iv)(B), 9904(4)(c)(v), 9904(4)(c)(vi), 9904(4)(c)(vii), 9904(4)(c)(viii), 9904(4)(c)(ix), 9904(4)(c)(x), 9904(4)(c)(x)(A), 9904(4)(c)(x)(B), 9904(4)(c)(x)(C), 9904(4)(c)(x)(D), 9904(4)(c)(xi), 9904(4)(c)(xi)(A), 9904(4)(c)(xi)(B), 9904(4)(c)(xi)(C), 9904(4)(d), 9904(4)(e); 082(4); 045(1); 9905; 140(2)(a) IBR; 045(1).
220 ² | Academic Laboratories Generator Standards | 73 FR 72912, 12/1/2008 | 070(7)(c)(vi), 070(7)(c)(vii); 170(7), 170(7)(a), 170(7)(b); 235, 235(1), 235(1)(a), 235(1)(b), 235(1)(c), 235(1)(d), 235(1)(e), 235(1)(f), 235(1)(g), 235(1)(h), 235(1)(i), 235(1)(j) and (k), 235(1)(l), 235(1)(m), 235(1)(n), 235(2), 235(2)(a), 235(2)(b); 225(3), 225(3)(a), 225(3)(b); 235(4), 235(4)(a), 235(4)(b), 235(4)(b)(i), 235(4)(b)(ii), 235(4)(b)(iii), 235(4)(b)(iv), 235(4)(b)(v), 235(4)(b)(vi), 235(4)(b)(vii), 235(4)(b)(viii), 235(4)(b)(ix), 235(4)(b)(x), 235(4)(b)(xi), 235(4)(c), 235(4)(d), 235(4)(e), 235(5)(a), 235(5)(b), 235(5)(b)(i), 235(5)(b)(ii), 235(5)(b)(iii), 235(5)(b)(iv), 235(5)(b)(v), 235(5)(b)(vi), 235(5)(b)(vii), 235(5)(b)(viii), 235(5)(b)(ix), 235(5)(b)(x), 235(5)(b)(xi), 235(5)(c), 235(6), 235(6), 235(7), 235(7), 235(7)(a), 235(7)(a)(i), 235(7)(a)(i)(A), 235(7)(a)(i)(C), 235(7)(a)(i)(B), 235(7)(a)(i)(C)(I), 235(7)(a)(i)(C)(II), 235(7)(a)(ii), 235(7)(a)(ii), 235(7)(a)(ii)(A), 235(7)(a)(ii)(B), 235(7)(a)(ii)(C), 235(7)(b), 235(7)(b)(i), 235(7)(b)(ii), 235(7)(b)(iii), 235(7)(b)(iii)(A), 235(7)(b)(iii)(B), 235(7)(b)(iii)(C), 235(7)(b)(iii)(C)(I), 235(7)(b)(iii)(C)(II), 235(8), 235(8), 235(8)(a), 235(8)(b), 235(8)(b)(i), 235(8)(b)(ii), 235(8)(b)(iii), 235(8)(b)(iv), 235(8)(b)(v), 235(8)(c), 235(8)(c)(i), 235(8)(c)(ii), 235(8)(c)(iii), 235(8)(c)(iv), 235(8)(d), 235(8)(d)(i), 235(8)(d)(ii), 235(9), 235(9)(a), 235(9)(a)(i), 235(9)(a)(ii), 235(9)(b), 235(9)(c), 235(9)(d), 235(9)(d)(i), 235(9)(d)(i)(A), 235(9)(d)(i)(B), 235(9)(d)(ii), 235(9)(d)(ii)(A), 235(9)(d)(ii)(B), 235(10), 235(10)(a), 235(10)(a)(i), 235(10)(a)(ii), 235(10)(a)(iii), 235(10)(b), 235(11), 235(11), 235(11)(a), 235(11)(b), 235(11)(b)(i), 235(11)(b)(ii), 235(11)(b)(iii), 235(11)(c), 235(11)(d), 235(11)(d)(i), 235(11)(d)(ii), 235(11)(e), 235(12), 235(12), 235(12)(a), 235(12)(b), 235(12)(c) except for “WAC 173-303-200(1)(b)(i)” citation, 235(12)(d), 235(12)(e), 235(12)(e)(i), 235(12)(e)(ii), 235(12)(e)(iii), 235(12)(e)(iv), 235(13), 235(13), 235(13)(a), 235(13)(b), 235(13)(c), 235(13)(d), 235(13)(e), 235(13)(e)(i), 235(13)(e)(ii), 235(13)(e)(iii), 235(13)(e)(iv), 235(14), 235(14)(a), 235(14)(a)(i), 235(14)(a)(ii), 235(14)(a)(iii) except for the phrase “, more than 2.2 pounds of WT01 EHW”, 235(14)(a)(iv), 235(14)(b), 235(14)(b)(i), 235(14)(b)(ii), 235(15), 235(15)(a), 235(15)(a)(i), 235(15)(a)(i)(A), 235(15)(a)(i)(B), 235(15)(a)(ii), 235(15)(b), 235(15)(b)(i), 235(15)(b)(ii), 235(15)(b)(iii), 235(15)(b)(iv), 235(15)(b)(iv)(A), 235(15)(b)(iv)(B), 235(15)(b)(iv)(B)(I), 235(15)(b)(iv)(B)(II), 235(15)(b)(v), 235(15)(b)(vi), 235(15)(b)(vi)(A), 235(15)(b)(vi)(B), 235(15)(b)(vii), 235(15)(b)(vii)(A), 235(15)(b)(vii)(B), 235(15)(b)(vii)(C), 235(15)(b)(vii)(D), 235(15)(c), 235(15)(d), 235(16), 235(16)(a), 235(16)(b), 235(17), 235(17)(a), 235(17)(b).
222 | OECD Requirements; Export Shipments of Spent Lead-Acid Batteries | 75 FR 1236, 1/8/2010 | 170(6); 230(1) IBR; 045(1); 240(11); 290(1)(b); 370(3), 370(7); 290(1)(b); 370(3), 370(7); 520(1)(a) and (b).
223 ² | Hazardous Waste Technical Corrections and Clarifications | 75 FR 12989, 1/18/2010 | 040 “New TSD facility” definition; 040 “Processed scrap metal” definition; 016 Table 1; 070(8)(a)(iii); 120(3), 120(3)(d); 090(7)(a)(viii); 9904; 9903; 082(4) IBR; 045(1); 180(3)(f), 180(3)(f)(i), 180(3)(f)(i)(A), 180(3)(f)(i)(B), 180(3)(f)(ii), 180(3)(f)(iii), 180(3)(f)(iv); 200(1)(b)(iv)(B), 200(1)(f), 200(1)(g) , 200(2)(a), 200(2)(b); 220(2)(e), 220(2)(e)(i), 220(2)(e)(ii) 220(2)(e)(ii) Note; 230(2); 350(2); 370(5)(e)(vi), 370(5)(f)(i), 370(5)(f)(vii), 370(5)(f)(viii); 350(2); 360(2)(d)(ii); 370(5)(e)(vi), 370(5)(f)(i), 370(5)(f)(vii), 370(5)(f)(viii); 400(3)(a) IBR and 045(1); 505(1)(b)(i); 140(2)(a) IBR; 045(1); 810(8)(b).
226 ² | Academic Laboratories Generator Standards Technical Corrections | 75 FR 79304, 12/20/2010 | 235(1), 235(1)(b), 235(7)(b)(iii)(A), 235(13)(e)(i), 235(15)(a)(i), 235(15)(b)(i).
227 | Revision of the Land Disposal Treatment Standards for Carbamate Wastes | 76 FR 34147, 6/13/2011 | 140(2)(a) IBR; 045(1).
228 ² | Hazardous Waste Technical Corrections and Clarifications Rule | 77 FR 22229, 4/13/2012 | 9904; 505(1)(b)(i).
¹ The Checklist is a document that addresses the specific changes made to the Federal regulations by one or more related final rules published in the Federal Register. The EPA develops these checklists as tools to assist states in developing their authorization application and in documenting specific state regulations analogous to the Federal regulations. For more information, see the EPA's RCRA State Authorization website at https://www.epa.gov/rcra/state-authorization-under-resource-conservation-and-recovery-act-rcra#about.
² State rule contains more stringent provisions. For identification of the more stringent State provisions refer to the authorization revision application's Attorney General Statement and Checklists found in the docket for this final authorization. Some of the more stringent state provisions are discussed in Section G of this authorization.

Table 2—State Initiated Changes
State Citation WAC 173-303-. . . | Reason for change | Analogous Federal 40 CFR citation
040 | ``Enforceable document” definition internal citations corrected: WAC 173-303-610(1)(e); WAC 173-303-620(1)(d) | 270.1(c)(7).
040 | “Facility” definition internal citation corrected: RCW 70.105D.020(8) | 260.10.
040 | “Performance track member facility” obsolete definition deleted | 260.10.
040 | “Release” definition internal citation corrected: RCW 70.105D.020(32) | 280.12 related.
045(1) | Date of incorporation by reference updated | No direct analog.
070(1)(b) | Language revised for equivalence with Federal rule | 262.11.
072(1)(b) | Internal citation corrected: “described in subsections (3) and (4) of this section.” | 260.20.
110(3)(a) | SW-846 reference information updated | 260.11(c).
110(3)(c), 110(7) | Updated Chemical Test Methods guidance and publication date | Related to 260.11 and 40 CFR appendix IX.
110(3)(g)(ix), 110(3)(h)(i), 110(3)(h)(vii) | References to industry standards and codes updated | 260.11(d) and (e).
170(3) | Clarification that final facility standards are found in WAC 173-303-600 | 264.1(g)(3) related.
180(3)(c) | Redundant manifest instructions deleted (Previous(d), (e) and (f) are renumbered to (c), (d) and (e)) | 262.23 related.
200(1)(b)(iv) | Requirement for independent qualified registered professional engineer (IQRPE) | 262.34(a)(1)(iv)—more stringent State requirement.
200(1)(b)(iv)(B) | Second sentence of this citation was relocated to new 200(1)(g) to clarify applicability to all generators | 262.34(a)(1)(iv)(B).
200(2)(b), 200(3)(c) | “Per waste stream” deleted for equivalence with Federal rule | 262.34(c).
200(4)(a)(iv)(A)(III) | Reminder added that facilities use an IQRPE to certify containment building design | 262.34(g)(4)(i)(C)—more stringent State requirement.
200(5) | Requirements for National Environmental Performance Track Program deleted (Previous (6) is renumbered to (5)) | 262.34(j), (k) and (l).
240(6) | Editing correction | 263.12 related—more stringent State requirement.
330(1)(d) | Editing correction; The second sentence of previous (c)(ii) is changed to (d), and (d) renumbered to (e) | 264.16(b).
370(1) | “Owners and operators” clarified to mean the phrase applies only to permitted facilities and dangerous waste recyclers | 264.70(a).
380(1)(r) | New sub-section: Certificates of major tank system repair added for equivalence with Federal rule | 264.73(b)(19).
400(3)(c)(ii)(G) | Enforceable documents in lieu of a post closure permit adopted | 265.110(c), 265.118(c)(4) and 265.121.
400(3)(c)(xxii)(B) | Reference to Performance Track member facilities deleted | 265.1101(c)(4).
400(3)(c)(xxii)(B) | Rule is modified to add IQRPE requirement | 265.1101(c)(3)(iii)—more stringent State requirement.
573(9)(b)(ii)(A) | Corrected for equivalence with Federal rule | 273.13(c)(2)(i).
573(19)(b)(iv) and (v) | References to thermostat universal waste are removed, including in the example calculation | 273.32(b)(4) and (5)—more stringent State requirement.
600(1) | Edit to clarify which rules are the final facility standards | 264.1(a).
600(2) | Clarification on what types of facilities can accept dangerous waste from off-site sources | 264.1(b).
610(4)(c) | Internal citations corrected for equivalence with Federal rule | 264.113(c).
610(3)(a)(ix), 610(3)(b)(ii)(D), 610(8)(d)(ii)(D) | Internal citation corrected | 264.112(b)(8), 264.112(c)(2)(iv), and 264.118(d)(2)(iv).
610(12)(f) | Editing correction | No direct analog.
620(1)(d)(i) | Internal citation corrected | 264.140(d)(1).
620(3)(a)(ii), 620(6)(a), 620(9)(a) | Revise wording to be gender neutral | 264.142(a)(2), 264.145, and 264.148(a).
620(3)(a)(ii), 620(5)(a) | Clarify that financial assurance cost estimates are performed by a third party | 264.142(a)(2) and 264.144(a)(1).
620(3)(a)(v), 620(4)(g), 620(6)(c) | Clarify that net present value adjustments are not allowed | 262.142(a), 264.142(a), and 264.144(a).
620(4)(a)(vi), 620(4)(d)(iv), 620(6)(a)(vi) | Clarify that financial test and the corporate guarantee are two separate but related options | 264.143(f), 264.143(f), and 264.145(f).
620(4)(d)(iv), 620(6)(a)(vi), 620(8)(a)(iv) | Minimum tangible net worth raised to $25 million | 264.143(f)—more stringent State requirement. 264.145(f)—more stringent State requirement. 264.147(f)—more stringent State requirement.
620(4)(d)(v), 620(6)(a)(vii) | “Agreed upon Procedures” report can be used in place of a “Negative Assurance” report | 264.143(f)(3)(iii) and 264.143(f)(3)(iii).
620(8)(a)(i) | Minimum financial assurance liability amounts increased. (Previous (i), (ii) and (iii) are renumbered to (ii), (iii) and (iv)) | 264.147(a) and 264.147(b)—more stringent State requirements.
630(7)(d) | Clarify that rule applies to TSD owners and operators, not generators | 264.175(d)—more stringent State requirement.
640(2)(c)(v)(B) Note 640(4)(i)(iii) Note 640(9)(b) | References to industry standards and codes updated | 264.191(b)(5)(ii) Note and 264.193(i)(3) Note.
645(1)(e) | Rule for enforceable documents in lieu of a post closure permit (previous (e) became (f)) | 264.90(e).
645(8)(c) | Clarify rule applicability | 264.97(c)—more stringent State requirement.
64620(5) | New rules for corrective action financial assurance | 264.101 related—more stringent State requirement.
64690 | Facilities must use an IQRPE for staging pile design | 264.554 IBR, 045(1)—more stringent State requirement.
650(4)(c) | Facilities must use an IQRPE to certify dike integrity | 254.226(c)—more stringent State requirement.
650(5)(d)(ii)(B) | Facilities must use an IQRPE for impoundment design | 254.227(d)(2)(ii)—more stringent State requirement.
650(6)(b)(ii) | Internal citation corrected | 264.228(b)(2).
665(2)(a)(i) | Facilities must use an IQRPE to certify report on basis for landfill liner selection | 264.301(a)(1)—more stringent State requirement.
800(2), 800(12), 806(4)(a), 806(4)(o) | Rules for enforceable documents in lieu of a post closure permit | 270.1(c) intro, 270.1(c)(7), 270.14(a), and 270.28.
806(4)(d)(v) | Facilities must use an IQRPE for certifying dike integrity | 270.17(d)—more stringent State requirement.
806(4)(e)(iii)(A)(I) | Reference to IQRPE requirement to certify waste pile liner selection | 270.18(c)(1)(i)—more stringent State requirement.
806(4)(h)(ii)(A)(I) | Reference to IQRPE requirement to certify landfill liner selection | 270.21(b)(1)(i)—more stringent State requirement.
806(4)(j)(iv)(C), 806(4)(k)(v)(C) | The word “design” is deleted after “basic control device” for equivalence with Federal rule | 270.24(d)(3) and 270.25(e)(3).
806(4)(n) | New facilities added to list of those able to burn hazardous waste | 270.22 intro.
811 | New Boiler and Industrial Furnace (BIF) facility types added to list | 270.66 IBR 045(1).
830 Appendix I Permit modifications table | New entry for “Burden Reduction” added | 270.42 Appendix I—more stringent State requirement.
830 Appendix I(F)(1)(c), (F)(4)(a), (G)(1)(e), (G)(5)(c), (H)(5)(C) | Note added acknowledging non-existent RCRA section | 270.42 Appendix I.
841 | New Boiler and Industrial Furnace (BIF) facility types added to list | 270.235(a)(1) intro IBR 045(1).
9903 | Numerical P list | 261.33.
| • P108 CAS number corrected (2 entries)
| • P114 Tetraethydithiopyrophosphate is replaced with Thallium(I) selinite
| • P115 Thiodiphosphoric acid, tetraethyl ester is replaced with Sulfuric acid, dithallium(1+) salt
| • P115 Plumbane, tetraethyl is replaced with Thallium(I) sulfate
| • P116 Tetraethyl lead is replaced with Hydrazinecarbothioamide
| • Correct errors with waste codes, CAS numbers and chemical names
| • P128 Mexacarbate CAS number corrected
| Alphabetical U list
| • U202 1,2-Benzisothiazol-3(2H)-one, 1,1-dioxide, & salts deleted.*
| • U202 Saccharin, & salts deleted.*
| • U227 waste code for 1,1,1-Trichloroethane is replaced with U226
| Numerical U list
| • U202 1,2-Benzisothiazol-3(2H)-one, 1,1-dioxide, & salts deleted.*
| • U202 Saccharin, & salts deleted.*
| * These entries were deleted as part of State adoption of the December 17, 2010 (75 FR 78918) EPA rule removing saccharin from the discarded chemicals list. Although these changes are not State-initiated, they are listed here because an EPA checklist was not available
9904(1) K181 | K181 listing code codified | 261.32(a) K181.
9904 K181 entry, 9904(1) K181(iv), 9904(4)(b), 9904(4)(c), 9904(4)(c)(i) and (ii) | Four internal citations corrected | 261.32(a) K181, 261.32(d)(2), 261.32(d)(3), and 261.32(d)(3)(i) and (ii).
9904 K069 | Administrative stay note added | 261.32 K069.

G. Where are the revised State rules different from the Federal rules?

Under RCRA Section 3009, the EPA may not authorize State rules that are less stringent than the Federal program. Any state rules that are less stringent do not supplant the Federal regulations. State rules that are broader in scope than the Federal program requirements are allowed but are not authorized. State rules that are equivalent to and state rules that are more stringent than the Federal program may be authorized, in which case they are enforceable by the EPA.

This Section does not discuss all the program differences, because in most instances Washington writes its own version of the Federal hazardous waste rules. Persons must consult Tables 1 and 2 in Section F for the specific State regulations that the EPA is authorizing. This Section discusses rules of particular interest where the EPA has found the State program is more stringent and will be authorized. Table 2 above indicates all the rules that the EPA determined to be more stringent than the Federal rules. The Section below also discusses an example of a rule where the State program is broader in scope and cannot be authorized. Certain portions of the Federal program are not delegable to the states because of the Federal government's special role in foreign policy matters and because of national concerns that arise with certain decisions. The EPA does not delegate import and export functions. Under RCRA regulations found in 40 CFR part 262, the EPA will continue to implement requirements for import and export functions. However, the State rules (WAC 173-303-230) reference the EPA's import and export requirements, and the State has amended these references to include those changes promulgated in the Federal Rule on Corrections to Errors in the Code of Federal Regulations (71 FR 40254, July, 7, 2006). Additional information regarding the EPA's analysis concerning the State's rules that are more stringent and/or broader in scope than the Federal rules can be found in the docket.

1. More Stringent

States are allowed to seek authorization for state requirements that are more stringent than Federal requirements. The EPA has authority to authorize and enforce those parts of a state's program the EPA finds to be more stringent than the Federal program. This Section does not discuss each more stringent finding made by the EPA, but persons can locate such findings by consulting Table 1 in Section F and by reviewing the docket for these rules. This action authorizes the State program for each more stringent requirement.

a. Satellite Accumulation—On December 20, 1984 (49 FR 49568), the Federal Satellite Accumulation rule was promulgated. The State adopted a satellite accumulation rule in 1986 and adopted a revised rule on December 8, 1993. On December 18, 2014, the State adopted another revision to WAC 173-303-200(2) with all instances of “per waste stream” removed for consistency with the Federal rule at 40 CFR 262.34(c). The State rule has an additional provision for satellite accumulation requirements whereby the State can require additional management requirements on a case-by-case basis, which renders the State rule more stringent than the Federal rule. Additional details regarding the State's adoption of the revised satellite accumulation rule are available in the docket.

b. Academic Laboratory Generator Standards—The State's Academic Laboratories Generator Standards contain more stringent requirements than the corresponding Federal rules (73 FR 72912, December 1, 2008).

i. WAC 173-303-235(4)(a), (4)(b)(ii), (5)(a), and (5)(b)(ii), are more stringent because the State requires small quantity generators to obtain EPA/state identification numbers, whereas the Federal rules at 40 CFR 262.203(a) and (b)(2) and 40 CFR 262.204(a) and (b)(2) exempt the comparable Conditionally Exempt Small Quantity Generators (CESQGs).

ii. WAC 173-303-235(4)(b) and (5)(b) are more stringent than 40 CFR 262.203(b) and 262.204(b) introductory paragraphs due to the State requirement for small quantity generators to complete the entire Washington State Dangerous Waste Site Identification form, whereas the Federal rules exempt CESQGs from filling in a site identification number.

iii. WAC 173-303-235(7)(a)(i), 235(9)(d)(i)(A) and 235(9)(d)(ii)(A) require accumulation start dates and full container dates to be attached to the containers rather than, at a minimum, be associated with them as required by 40 CFR 262.206(a)(1) and 262.208(d)(1)(i).

iv. WAC 173-303-235(14)(a)(iv) requires eligible academic entities to maintain records for five years after laboratory cleanouts rather than three years as required in 40 CFR 262.213(a)(4).

On December 12, 2010 (75 FR 79304), the Federal Academic Laboratories Generator Standards Technical Corrections rules were promulgated. The State's rules at WAC 173-303-235(15)(a)(i) and (b)(i) are more stringent than the Federal rules because they require the accumulation date to appear on the container label, whereas the Federal rules at 40 CFR 262.214(a)(1) and (b)(1) allow the information to be associated with, but not necessarily placed on, the container. Additional details regarding the more stringent State provisions associated with the State's adoption of the Federal Academic Laboratories Generator Standards are available in the docket.

c. Characteristic of Reactivity—On January 31, 1986 (51 FR 3782), the State received authorization for its dangerous waste identification rules including WAC 173-303-090(7) Characteristic of reactivity. On January 18, 2010 (75 FR 12989), the Federal rule at 40 CFR 261.23(a)(8) was revised to update the forbidden explosives regulation under 40 CFR 261.23 Characteristic of reactivity. The State revised the corresponding WAC 173-303-090(7)(a)(viii), but included Division 1.5 explosives (refer to the US Department of Transportation Hazardous Materials Class 1 explosives chart) not included in the Federal rule. As a result, the State's rule is more stringent than the Federal rule. Additional details regarding the more stringent State provisions associated with forbidden explosives under the characteristic of reactivity rule are available in the docket.

d. Exception Reporting—On January 18, 2010 (75 FR 12989), the Federal Hazardous Waste Technical Corrections and Clarifications rules were promulgated. Under 40 CFR 262.42(c)(2), the 35/45/60 day timeframes for exception reporting begin the date the waste was accepted by the initial transporter forwarding the hazardous waste from the designated facility to the alternate facility. The State rule at WAC 173-303-220(2)(e)(ii) is more stringent because it does not have a 60-day window for Medium Quantity Generators (equivalent to Federal Small Quantity Generators) to submit exception reports to the Washington State Department of Ecology. Additional details regarding the more stringent State provisions associated with Exception reports are available in the docket.

e. Independent Qualified Registered Professional Engineers—On December 18, 2014, the State adopted rule changes to require Independent Qualified Registered Professional Engineers (IQRPEs) to certify certain activities. The revised State rules at WAC 173-303-200(1)(b)(iv), 200(4)(a)(iv)(A)(III), 400(3)(c)(xxii)(B), 64690, 650(4)(c), 650(5)(d)(ii)(B), 665(2)(a)(i), 806(4)(d)(v), 806(4)(e)(iii)(A)(I), and 806(4)(h)(ii)(A)(I) are more stringent than corresponding Federal rules at 40 CFR 262.34(a)(1)(iv) and (g)(4)(i)(C), 265.1101(c)(3)(iii), 264.554 (IBR, 045(1)), 264.226(c), 264.227(d)(2)(ii), 264.301(a)(1), 270.17(d), 270.18(c)(1)(i), and 270.21(b)(1)(i). Additional details regarding the more stringent State provisions associated with IQRPE requirements are available in the docket.

2. Broader in Scope

The State has added a time limit for special wastes that are stored at transfer stations under WAC 173-303-073(2)(e)(v). The Federal rules do not regulate these special wastes which are State-only wastes and defined at WAC 173-303-040; therefore, the regulation of these wastes is broader in scope than the Federal rules. As noted above, broader in scope rules are not authorized by the EPA.

H. Who issues permits once the authorization takes effect?

Washington will continue to issue permits for all the provisions for which it is authorized and will administer the permits it issues. Permits issued by the EPA prior to authorizing Washington for these revisions will continue in force until the effective date of the State's issuance or denial of a State hazardous waste management permit, at which time, the EPA will modify the existing EPA permit to expire at an earlier date, terminate the existing EPA permit, or allow the existing EPA permit to otherwise expire by its terms, except for those facilities located in Indian Country. The EPA will not issue new permits or new portions of permits for provisions for which Washington is authorized after the effective date of this authorization. The EPA will continue to implement and issue permits for HSWA requirements for which Washington is not yet authorized.

I. What is codification and is the EPA codifying Washington's hazardous waste program as authorized in this authorization?

Codification is the process of placing the State's statutes and regulations that comprise the State's authorized hazardous waste program into the Code of Federal Regulations. This is done by referencing the authorized State rules in 40 CFR part 272. The EPA is reserving the amendment of 40 CFR part 272, subpart WW, for this authorization of Washington's program revisions until a later date.

J. How does this action affect Indian Country (18 U.S.C. 1151) in Washington?

The EPA's decision to authorize the Washington hazardous waste management program does not include any land that is, or becomes after the date of this authorization, “Indian Country,” as defined in 18 U.S.C. 1151, with the exception of the non-trust lands within the exterior boundaries of the Puyallup Indian Reservation (also referred to as the “1873 Survey Area” or “Survey Area”) located in Tacoma, Washington. The EPA retains jurisdiction over “Indian Country”. Effective October 22, 1998 (63 FR 50531, September 22, 1998) the State of Washington was authorized to implement the State's federally-authorized hazardous waste management program on the non-trust lands within the 1873 Survey Area of the Puyallup Indian Reservation. The authorization did not extend to trust lands within the reservation. The EPA retains its authority to implement RCRA on trust lands and over Indians and Indian activities within the 1873 Survey Area.

K. Statutory and Executive Order Reviews

This final authorization revises the State of Washington's authorized hazardous waste management program pursuant to Section 3006 of RCRA and imposes no requirements other than those currently imposed by State law. This authorization complies with applicable executive orders and statutory provisions as follows:

1. Executive Order 12866

Under Executive Order (E.O.) 12866 (58 FR 51735, October 4, 1993), Federal agencies must determine whether the regulatory action is “significant”, and therefore subject to OMB review and the requirements of the E.O. The E.O. defines “significant regulatory action” as one that is likely to result in a rule that may: (1) Have an annual effect on the economy of $100 million or more, or adversely affect in a material way, the economy, a sector of the economy, productivity, competition, jobs, the environment, public health or safety, or State, local, or tribal governments or communities; (2) create a serious inconsistency or otherwise interfere with an action taken or planned by another agency; (3) materially alter the budgetary impact of entitlements, grants, user fees, or loan programs, or the rights and obligations of recipients thereof; or (4) raise novel legal or policy issues arising out of legal mandates, the President's priorities, or the principles set forth in the E.O. The EPA has determined that this final authorization is not a “significant regulatory action” under the terms of E.O. 12866 and is therefore not subject to OMB review.

2. Paperwork Reduction Act

This action does not impose an information collection burden under the provisions of the Paperwork Reduction Act, 44 U.S.C. 3501 et seq., because this final authorization does not establish or modify any information or recordkeeping requirements for the regulated community and only seeks to authorize the pre-existing requirements under State law and imposes no additional requirements beyond those imposed by State law.

Burden means the total time, effort, or financial resources expended by persons to generate, maintain, retain, or disclose or provide information to or for a Federal agency. This includes the time needed to review instructions; develop, acquire, install, and utilize technology and systems for the purposes of collecting, validating, and verifying information, processing, and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for the EPA's regulations in title 40 of the CFR are listed in 40 CFR part 9.

3. Regulatory Flexibility Act

The Regulatory Flexibility Act (RFA), generally requires Federal agencies to prepare a regulatory flexibility analysis of any rule subject to notice and comment rulemaking requirements under the Administrative Procedure Act or any other statute unless the agency certifies that the rule will not have a significant economic impact on a substantial number of small entities. Small entities include small businesses, small organizations, and small governmental jurisdictions. For purposes of assessing the impacts of this authorization on small entities, small entity is defined as: (1) A small business defined by the Small Business Administration's size regulations at 13 CFR part 121.201; (2) a small governmental jurisdiction that is a government of a city, county, town, school district, or special district with a population of less than 50,000; and (3) a small organization that is any not-for-profit enterprise which is independently owned and operated and is not dominant in its field. I certify that this final authorization will not have a significant economic impact on a substantial number of small entities because the final authorization will only have the effect of authorizing pre-existing requirements under State law and imposes no additional requirements beyond those imposed by State law.

4. Unfunded Mandates Reform Act

Title II of the Unfunded Mandates Reform Act (UMRA) of 1995 (Pub. L. 104-4) establishes requirements for Federal agencies to assess the effects of their regulatory actions on State, local, and tribal governments and the private sector. Under Section 202 of the UMRA, the EPA generally must prepare a written statement, including a cost-benefit analysis, for proposed and final rules with “Federal mandates” that may result in expenditures to State, local, and tribal governments, in the aggregate, or to the private sector, of $100 million or more in any one year. Before promulgating an EPA rule for which a written statement is needed, Section 205 of the UMRA generally requires the EPA to identify and consider a reasonable number of regulatory alternatives and adopt the least costly, most cost-effective or least burdensome alternative that achieves the objectives of the rule. The provisions of Section 205 do not apply when they are inconsistent with applicable law. Moreover, Section 205 allows the EPA to adopt an alternative other than the least costly, most cost-effective, or least burdensome alternative if the Administrator publishes with the rule an explanation why the alternative was not adopted. Before the EPA establishes any regulatory requirements that may significantly or uniquely affect small governments, including tribal governments, it must have developed under Section 203 of the UMRA a small government agency plan. The plan must provide for notifying potentially affected small governments, enabling officials of affected small governments to have meaningful and timely input in the development of the EPA regulatory proposals with significant Federal intergovernmental mandates, and informing, educating, and advising small governments on compliance with the regulatory requirements. This final authorization contains no Federal mandates (under the regulatory provisions of Title II of the UMRA) for state, local, or tribal governments or the private sector. It imposes no new enforceable duty on any state, local or tribal governments or the private sector. Similarly, the EPA has also determined that this final authorization contains no regulatory requirements that might significantly or uniquely affect small government entities. Thus, this final authorization is not subject to the requirements of Sections 202 and 203 of the UMRA.

5. Executive Order 13132: Federalism

This final authorization does not have federalism implications. It will not have substantial direct effects on the states, on the relationship between the national government and the states, or on the distribution of power and responsibilities among various levels of government, as specified in E.O. 13132 (64 FR 43255, August 10, 1999). This document authorizes pre-existing State rules. Thus, E.O. 13132 does not apply to this final authorization. In the spirit of E.O. 13132, and consistent with the EPA policy to promote communications between the EPA and state and local governments, the EPA specifically solicited comment on this authorization from State and local officials.

6. Executive Order 13175: Consultation and Coordination With Indian Tribal Governments

Executive Order 13175, entitled “Consultation and Coordination with Indian Tribal Governments” (59 FR 22951, November 9, 2000), requires the EPA to develop an accountable process to ensure “meaningful and timely input by tribal officials in the development of regulatory policies that have tribal implications.” This final authorization does not have tribal implications, as specified in E.O. 13175 because the EPA retains its authority over Indian Country. Thus, E.O. 13175 does not apply to this final authorization. The EPA specifically solicited comment on this authorization from tribal officials.

7. Executive Order 13045: Protection of Children From Environmental Health and Safety Risks

The EPA interprets Executive Order 13045 (62 FR 19885, April 23, 1997) as applying only to those regulatory actions that concern health or safety risks, such that the analysis required under Section 5-501 of the E.O. has the potential to influence the regulation. This action is not subject to E.O. 13045 because it approves a state program.

8. Executive Order 13211: Actions That Significantly Affect Energy Supply, Distribution, or Use

This final authorization is not subject to Executive Order 13211, “Actions Concerning Regulations that Significantly Affect Energy Supply, Distribution, or Use” (66 FR 28355, May 22, 2001) because it is not a “significant regulatory action” as defined under E.O. 12866, as discussed in detail above.

9. National Technology Transfer and Advancement Act

Section 12(d) of the National Technology Transfer and Advancement Act of 1995 (“NTTAA”), (Pub. L. 104-113, 12(d)) (15 U.S.C. 272), directs the EPA to use voluntary consensus standards in its regulatory activities unless to do so would be inconsistent with applicable law or otherwise impractical. Voluntary consensus standards are technical standards (e.g., materials specifications, test methods, sampling procedures, and business practices) that are developed or adopted by voluntary consensus bodies. The NTTAA directs the EPA to provide Congress, through OMB, explanations when the Federal agency decides not to use available and applicable voluntary consensus standards. This authorization does not involve technical standards. Therefore, the EPA is not considering the use of any voluntary consensus standards.

10. Executive Order 12898: Federal Actions To Address Environmental Justice in Minority Populations and Low-Income Populations

Executive Order 12898 (59 FR 7629, February 16, 1994) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States. The EPA has determined that this final authorization will not have disproportionately high and adverse human health or environmental effects on minority or low-income populations. This final authorization does not affect the level of protection provided to human health or the environment because this document authorizes pre-existing State rules which are equivalent to and no less stringent than existing Federal requirements.

11. The Congressional Review Act, 5 U.S.C. 801-808

The Congressional Review Act, 5 U.S.C. 801-808, generally provides that before a rule may take effect, the agency promulgating the rule must submit a rule report, which includes a copy of the rule, to each House of the Congress and to the Comptroller General of the United States. EPA will submit a report containing this document and other required information to the U.S. Senate, the U.S. House of Representatives, and the Comptroller General of the United States prior to publication in the Federal Register. A major rule cannot take effect until 60 days after it is published in the Federal Register. This action is not a “major rule” as defined by 5 U.S.C. 804(2).

List of Subjects in 40 CFR Part 271

Environmental protection, Administrative practice and procedure, Confidential business information, Hazardous materials transportation, Hazardous waste, Indians—lands, Intergovernmental relations, Penalties, Reporting and recordkeeping requirements.

Authority: This final action is issued under the authority of Sections 1006, 2002(a), and 3006 of the Solid Waste Disposal Act, as amended, 42 U.S.C. 6905, 6912(a), and 6926.

Dated: February 20, 2018.
Chris Hladick,
Regional Administrator, Region 10.

[FR Doc. 2018-04702 Filed 3-8-18; 8:45 am]

BILLING CODE 6560-50-P